DEPARTMENT OF AGRICULTURE

Animal and Plant Health Inspection Service

9 CFR Part 94

[Docket No. APHIS-2012-0094]

Notice of Availability of an Evaluation of the Swine Vesicular Disease Status of Certain Regions in Italy

AGENCY: Animal and Plant Health Inspection Service, USDA.

ACTION: Notice of Availability.

SUMMARY: We are advising the public that we have determined that the Italian Regions of Lombardia, Emilio-Romagna, Veneto, and Piemonte and the autonomous provinces of Trento and Bolzano are free of swine vesicular disease. This determination is based on our review of the documentation submitted by the Government of Italy in support of its request and the findings of our own animal health risk evaluation. We are making our determination, as well as the evaluation we have prepared in connection with this action, available for review and comment.

DATES: We will consider all comments that we receive on or before February 19, 2013.

ADDRESSES: You may submit comments by either of the following methods:

• Federal eRulemaking Portal: Go to http://www.regulations.gov/#!documentDetail;D=APHIS-2012-0094-0001.

• Postal Mail/Commercial Delivery: Send your comment to Docket No. APHIS-2012-0094, Regulatory Analysis and Development, PPD, APHIS, Station 3A-03.8, 4700 River Road Unit 118, Riverdale, MD 20737-1238.

Supporting documents and any comments we receive on this docket may be viewed at http://www.regulations.gov/#!docketDetail;D=APHIS-2012-0094 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Dr. Chip Wells, Senior Staff Veterinarian, Regionalization Evaluation Services, Sanitary Trade Issues Team, National Center for Import and Export, VS, APHIS, 4700 River Road Unit 38, Riverdale, MD 20737-1231; (301) 851-3089.

SUPPLEMENTARY INFORMATION:

Background

The regulations in 9 CFR part 94 (referred to below as the regulations) govern the importation of certain animals and animal products into the United States in order to prevent the introduction of various communicable diseases, including swine vesicular disease (SVD). These are dangerous and destructive communicable diseases of ruminants and swine.

Sections 94.12 and 94.14 of the regulations contain requirements governing the importation of pork and pork products and swine, respectively, from regions where SVD exists in order to prevent the introduction of the disease into the United States. We consider SVD to exist in all regions except those listed in accordance with § 94.12(a)(2) as being free of SVD.

Section 94.13 of the regulations contains requirements governing the importation of pork or pork products from regions that have been determined to be free of SVD, but that are subject to certain restrictions because of their proximity to or trading relationships with SVD-affected regions. Such regions are listed in accordance with paragraph (a)(2) of that section.

The regulations in 9 CFR 92.2 contain requirements for requesting the recognition of the animal health status of a region or for the approval of the export of a particular type of animal or animal product to the United States from a foreign region. If, after review and evaluation of the information submitted in support of the request, the Animal and Plant Health Inspection Service (APHIS) believes the request can be safely granted, APHIS will make its evaluation available for public comment through a notice published in the Federal Register. Following the close of the comment period, APHIS will review all comments received and will make a final determination regarding the request that will be detailed in another notice published in the Federal Register.

In July 1997, the European Commission and the Government of Italy submitted a request to APHIS seeking the recognition of certain Regions in northern Italy (in Italy, a “Region” is a type of political jurisdiction) as being free of SVD. We conducted a qualitative risk assessment, and on June 25, 1999, we published in the Federal Register (64 FR 34155-34168, Docket No. 98-090-1) a proposal to amend the regulations in order to recognize eight regions in northern Italy as free of SVD. However, before that rule was made final, SVD outbreaks occurred in four of the eight Regions. Therefore, in the final rule published April 7, 2003, in the Federal Register (68 FR 16922-16941, Docket No. 98-090-5), APHIS recognized only those four Regions that remained free of SVD (Friuli, Liguria, Marche, and Valle d'Aosta). In the intervening years, we have continued our evaluation of the SVD status of Italy, as is our standard procedure in cases where the requesting country does not withdraw its request for recognition of disease freedom. Based on information provided by the Italian government as well as multiple site visits, we have now found four Regions within north-central Italy (Lombardia, Emilio-Romagna, Veneto, and Piemonte) and two autonomous provinces (Trento and Bolzano) to be free of SVD.

APHIS has evaluated the risk of introducing SVD into the United States via the importation of SVD-susceptible species or products from these areas of Italy in accordance with 9 CFR part 92. Based on this evaluation, APHIS has found that that the surveillance, prevention, and control measures implemented by Italy in the four Regions and two autonomous provinces under consideration as being free of SVD are sufficient to minimize the likelihood of introducing SVD into the United States via imports of SVD-susceptible species or products. However, because of its proximity to or trading relationships with SVD-affected regions, we have found that it is necessary to impose additional restrictions in accordance with § 94.13 on the importation of pork or pork products from the areas of Italy under consideration for being declared free of SVD.

Therefore, in accordance with § 92.2(e), we are announcing the availability, for public review and comment, of our evaluation of the SVD status of the Regions and autonomous provinces under consideration. The evaluation may be viewed on the Regulations.gov Web site or in our reading room. (Instructions for accessing Regulations.gov and information on the location and hours of the reading room are provided under the heading ADDRESSES at the beginning of this document.) The evaluation, as well as the information evaluated, may also be viewed at http://www.aphis.usda.gov/import_export/animals/reg_request.shtml by following the link for “Previous regionalization requests and supporting documentation.”

After reviewing any comments we receive, we will announce our decision regarding the disease status of the Italian Regions of Lombardia, Emilio-Romagna, Veneto, and Piemonte and the autonomous provinces of Trento and Bolzano with respect to SVD and the import status of susceptible animals and products of such animals in a subsequent notice.

Authority: 7 U.S.C. 450, 7701-7772, 7781-7786, and 8301-8317; 21 U.S.C. 136 and 136a; 31 U.S.C. 9701; 7 CFR 2.22, 2.80, and 371.4.

Done in Washington, DC, this 11th day of December 2012.
Kevin Shea,
Acting Administrator, Animal and Plant Health Inspection Service.

[FR Doc. 2012-30257 Filed 12-17-12; 8:45 am]

BILLING CODE 3410-34-P